FEDERAL RETIREMENT THRIFT INVESTMENT BOARD

Sunshine Act Notice

AGENCY: Federal Retirement Thrift Investment Board.

ACTION: Notice; correction.

Time and Date: 3 p.m. (EDT); correction July 24, 2003; correction.

Place: 4th Floor, Conference Room, 1250 H Street, NW., Washington, DC.

SUMMARY: The Federal Retirement Thrift Investment Board published a notice in the Federal Register on Thursday, July 17, 2003, concerning upcoming Board member meeting.

Correction

In the Federal Register of Thursday, July 17, 2003, Vol. 68, No. 137, page 42473, in the third column, change the time and date caption to read: 3 p.m. (EDT), July 24, 2003.

FOR FURTHER INFORMATION CONTACT: Thomas J. Trabucco, Director, Office of External Affairs, (202) 942-1640.

Dated: July 17, 2003.
Elizabeth S. Woodruff,
Secretary to the Board, Federal Retirement Thrift Investment Board.

[FR Doc. 03-18657 Filed 7-17-03; 4:54 am]

BILLING CODE 6760-01-M